DEPARTMENT OF TRANSPORTATION

Surface Transportation Board

[STB Docket No. MC-F-20991]

Greyhound Lines, Inc., and Laidlaw Inc.—Continuance in Control—Crucero U.S.A., L.L.C.

AGENCY: Surface Transportation Board.

ACTION: Notice tentatively approving finance transaction.

SUMMARY: Greyhound Lines, Inc. (Greyhound), a motor passenger carrier, and Laidlaw Inc. (Laidlaw), a noncarrier, through their indirectly controlled subsidiary, Sistema Internacional de Transporte de Autobuses, Inc. (SITA), seek approval under 49 U.S.C. 14303 to continue in indirect control of Crucero, U.S.A., L.L.C. (Crucero), upon Crucero's becoming a regulated motor passenger carrier. Persons wishing to oppose the application must follow the rules under 49 CFR 1182.5 and 1182.8. The Board has tentatively approved the transaction, and, if no opposing comments are timely filed, this notice will be the final Board action.

DATES: Comments are due by November 4, 2002. Applicant may file a reply by November 19, 2002. If no comments are filed by November 4, 2002, this notice is effective on that date.

ADDRESSES: Send an original and 10 copies of any comments referring to STB Docket No. MC-F-20991 to: Surface Transportation Board, 1925 K Street, NW., Washington, DC 20423-0001. In addition, send one copy of comments to applicants' representative: Fritz R. Kahn, 1920 N Street, NW. (8th Floor), Washington, DC 20036-1601.

FOR FURTHER INFORMATION CONTACT: Joseph H. Dettmar, (202) 565-1600. [Assistance for the hearing impaired is available through the Federal Information Relay Service (FIRS): 1-800-877-8339].

SUPPLEMENTARY INFORMATION: Greyhound, an indirect subsidiary of Laidlaw, holds nationwide, motor passenger carrier operating authority under Docket No. MC-1515. Through its noncarrier subsidiary, SITA, Greyhound controls Americanos U.S.A., L.L.C. (MC-309813), operating between Mexican border crossings at points in TX, on the one hand, and, on the other, Albuquerque, NM, Denver, CO, Dallas and Houston, TX, and Chicago, IL, and between other points in the southernwestern United States; Autobuses Amigos, L.L.C. (MC-34062), operating between Mexican border crossing points at Brownsville and Houston, TX, and points in the southeastern United States; and Gonzalez, Inc., d/b/a/ Golden State Transportation (MC-173837), operating in Arizona, California, Colorado, and Nevada.¹

¹ Through its noncarrier subsidiary, GLI Holding Company, Greyhound also controls Rockford Coach Lines, L.L.C. (MC-66810), operating in Illinois; Valley Transit Co., Inc. (MC-74), operating in Texas; Carolina Coach Company (MC-13300), operating in Delaware, Maryland, North Carolina, Pennsylvania and Virginia; Texas, New Mexico & Oklahoma Coaches, Inc., (MC-61120), operating in Colorado, Kansas, New Mexico, Oklahoma and Texas; and Vermont Transit Co., Inc. (MC-45626), operating in Maine, Massachusetts, New Hampshire, New York and Vermont.

Laidlaw also directly or indirectly controls a number of motor passenger carriers, including Laidlaw Transit Ltd (MC-102189), and Greyhound Canada Transportation Corp. (MC-304126), both of which are authorized to conduct charter and special passenger carrier operations within the United States. Laidlaw's other motor passenger carrier subsidiaries, with the exception of Greyhound, are also largely limited to charter and special operations within the United States.

Crucero, a company indirectly controlled by Applicants through their noncarrier subsidiary, SITA, holds no authority to operate as a motor passenger carrier, but has filed an application [Form OP-1(P)] with the U.S. Department of Transportation, Federal Motor Carrier Safety Administration, for authority to perform scheduled, regular-route service in California and Arizona.

Applicants note that Crucero will concentrate on serving the transportation needs of Hispanic passengers principally between Los Angeles, CA, and Phoenix, AZ, on the one hand, and, on the other, the Mexican border crossing points at San Ysidro and Calexico, CA, and Nogales and Douglas, AZ. The applicants assert that the affiliation of Crucero with Greyhound and its regulated carriers will ensure that Crucero will have an adequate number of buses to meet the travel needs of its passengers and to make them available for its Greyhound and Laidllaw affiliates when needed. Applicants maintain that such arrangements will render the operations of Crucero efficient and economical, which will enure to the benefit of the public.

Under 49 U.S.C. 14303(b), we must approve and authorize a transaction we find consistent with the public interest, taking into consideration at least: (1) The effect of the transaction on the adequacy of transportation to the public; (2) the total fixed charges that result; and (3) the interest of affected carrier employees.

Applicants have submitted the information required by 49 CFR 1182.2, including information to demonstrate that the proposed transaction is consistent with the public interest under 49 U.S.C. 14303(b). Specifically, applicants have shown that the proposed transaction will have a positive effect on the adequacy of transportation to the public and will result in no increase in fixed charges and no changes in employment. See 49 CFR 1182.2(a)(7). Additional information may be obtained from applicants' representative.

On the basis of the application, we find that the proposed transaction is consistent with the public interest and should be authorized. If any opposing comments are timely filed, this finding will be deemed vacated, and, unless a final decision can be made on the record as developed, a procedural schedule will be adopted to reconsider the application. See 49 CFR 1182.6(c). If no opposing comments are filed by the expiration of the comment period, this decision will take effect automatically and will be the final Board action.

Board decisions and notices are available on our website at “http://www.stb.dot.gov.”

This decision will not significantly affect either the quality of the human environment or the conservation of energy resources.

It is ordered:

1. The proposed continuance in control is approved and authorized, subject to the filing of opposing comments.

2. If timely opposing comments are filed, the findings made in this decision will be deemed as having been vacated.

3. This decision will be effective on November 4, 2002, unless timely opposing comments are filed.

4. A copy of this notice will be served on: (1) The U.S. Department of Transportation, Federal Motor Carrier Safety Administration, 400 7th Street, SW., Room 8214, Washington, DC 20590; (2) the U.S. Department of Justice, Antitrust Division, 10th Street & Pennsylvania Avenue, NW., Washington, DC 20530; and (3) the U.S. Department of Transportation, Office of the General Counsel, 400 7th Street, SW., Washington, DC 20590.

Decided: September 13, 2002.
By the Board, Chairman Morgan and Vice Chairman Burkes.
Vernon A. Williams,
Secretary.

[FR Doc. 02-23950 Filed 9-19-02; 8:45 am]

BILLING CODE 4915-00-P